NATIONAL CREDIT UNION ADMINISTRATION

Sunshine Act Meeting

time and date: 10 a.m., Thursday, April 15, 2004.

place: Board Room, 7th Floor, Room 7047, 1775 Duke Street, Alexandria, VA 22314-3428.

status: Open.

matters to be considered: 1. Quarterly Insurance Fund Report.

2. Proposed Rule: Section 701.36 of NCUA's Rules and Regulations, Federal Credit Union Ownership of Fixed Assets.

3. Proposed Rule: Part 705 of NCUA's Rules and Regulations, Community Development Revolving Loan Program for Credit Unions.

recess: 11:15 a.m.

time and date: 11:30 a.m., Thursday, April 15, 2004.

place: Board Room, 7th Floor, Room 7047, 1775 Duke Street, Alexandria, VA 22314-3428.

status: Closed.

matters to be considered: 1. Administrative Action under Section 206 of the Federal Credit Union Act. Closed pursuant to Exemptions (8), 9(A)(ii), and 9(B).

Becky Baker,
Secretary of the Board.

[FR Doc. 04-8406 Filed 4-8-04; 3:55 pm]

BILLING CODE 7535-01-M